DEPARTMENT OF THE INTERIOR

Bureau of Land Management

[CO-930-1430-ET; COC-25845]

Public Land Order No. 7473; Extension of Public Land Order No. 5811; Colorado

AGENCY: Bureau of Land Management, Interior.

ACTION: Public land order.

SUMMARY: This order extends Public Land Order No. 5811 for an additional 20-year period. This extension is necessary to continue the protection of the Bureau of Reclamation's McPhee Dam and Reservoir.

EFFECTIVE DATE: January 21, 2001.

FOR FURTHER INFORMATION CONTACT: Doris E. Chelius, BLM Colorado State Office, 2850 Youngfield Street, Lakewood, Colorado 80215-7093, 303-239-3706.

By virtue of the authority vested in the Secretary of the Interior by section 204 of the Federal Land Policy and Management Act of 1976, 43 U.S.C. 1714 (1994), it is ordered as follows:

1. Public Land Order No. 5811, which withdrew National Forest System lands for protection of the McPhee Dam and Reservoir, Dolores Project, is hereby extended for an additional 20-year period following its date of expiration.

2. This withdrawal will expire 20 years from the effective date of this order unless, as a result of a review conducted prior to the expiration date pursuant to Section 204(f) of the Federal Land Policy and Management Act of 1976, 43 U.S.C. 1714(f) (1994), the Secretary determines that the withdrawal shall be extended.

Dated: December 8, 2000.
Sylvia V. Baca,
Assistant Secretary of the Interior.

[FR Doc. 00-32642 Filed 12-21-00; 8:45 am]

BILLING CODE 4310-JB-P